NATIONAL SCIENCE FOUNDATION

Advisory Committee for Geosciences; Notice of Meeting

In accordance with the Federal Advisory Committee Act (Pub. L. 92-463, as amended), the National Science Foundation (NSF) announces the following meeting:

NAME AND COMMITTEE CODE: Advisory Committee for Geosciences (1755).

DATE AND TIME:

April 13, 2022; 11:00 a.m.-4:30 p.m. EDT

April 14, 2022; 11:00 a.m.-4:30 p.m. EDT

PLACE: Virtual. Meeting registration information is available on the GEO Advisory Committee website at https://www.nsf.gov/geo/advisory.jsp).

TYPE OF MEETING: Open.

CONTACT PERSON: Melissa Lane, National Science Foundation, Room C 8000, 2415 Eisenhower Avenue, Alexandria, Virginia 22314; Phone 703-292-8500.

Minutes: May be obtained from the contact person listed above.

Purpose of Meeting: To provide advice, recommendations, and oversight on support for geoscience research and education including atmospheric, geo-space, earth, ocean, and polar sciences.

Agenda

April 13, 2022

• Directorate and NSF activities and plans

• Update on Division and OPP Activities

• Discussion on Growing and Enhancing Access to Research Resources for all Institutions

• Discussion of Innovation and Partnerships

April 14, 2022

• Discussion of the NSF Learning Agenda Related to Climate Equity

• Meeting with the NSF Director and Chief Operating Officer

• Action Items/Planning for Fall 2022 Meeting

Dated: March 11, 2022.
Crystal Robinson,
Committee Management Officer.

[FR Doc. 2022-05540 Filed 3-15-22; 8:45 am]

BILLING CODE 7555-01-P